DEPARTMENT OF TRANSPORTATION

Federal Aviation Administration

14 CFR Part 71

[Airspace Docket No. 02-ASO-2]

Establishment of Class E Airspace; Andrews—Murphy, NC; Correction

AGENCY: Federal Aviation Administration (FAA), DOT.

ACTION: Correcting amendments.

SUMMARY: This document contains a correction to the final rule (00-ASO-4), which was published in the Federal Register of March 31, 2000, (65 FR 17133), establishing Class E airspace at Andrews—Murphy, NC. This action corrects an error in the geographic coordinates for the Class E5 airspace at Andrews—Murphy, NC.

EFFECTIVE DATE: Effective 0901 UTC, April 18, 2002.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

Background

Federal Register Document 00-7959, Airspace Docket No. 00-ASO-4, published on March 31, 2000, (65 FR 17133), established Class E5 airspace at Andrews—Murphy, NC. An error was discovered in the geographic coordinates describing the Class E5 airspace area. What should have been latitude 35 degrees was published as 34 degrees. This action corrects that error.

Class E airspace designations for airspace areas extending upward from 700 feet or more above the surface of the earth are published in Paragraph 6005 of FAA Order 7400.9J, dated August 31, 2001, and effective September 16, 2001, which is incorporated by reference in 14 CFR 71.1. The Class E airspace designation listed in this document will be published subsequently in the Order.

Need for Correction

As published, the final rule contains an error which identifies an incorrect geographical position for the location of the Class E5 airspace area. Accordingly, pursuant to the authority delegated to me, the geographic coordinates for the Class E5 airspace area at Andrews—Murphy, NC, incorporated by reference at § 71.1, 14 CFR 71.1, and published in the Federal Register on March 31, 2000, (65 FR 17133), is corrected by making the following correcting amendment.

List of Subjects in 14 CFR Part 71

Airspace, Incorporation by reference, Navigation (air).

In consideration of the foregoing, the Federal Aviation Administration corrects the adopted amendment, 14 CFR Part 71, by making the following correcting amendment:

PART 71—DESIGNATION OF CLASS A, CLASS B, CLASS C, CLASS D, AND CLASS E AIRSPACE AREAS; AIRWAYS, ROUTES; AND REPORTING POINTS

1. The authority citation for part 71 continues to read as follows:

Authority: 49 U.S.C. 106(g); 40103, 40113, 40120; E.0. 10854, 24 FR 9565, 3 CFR, 1959-1963 Comp., p. 389.

§ 71.1 [Corrected]

2. The incorporation by reference in 14 CFR 71.1. of Federal Aviation Administration Order 7400.9J, Airspace Designations and Reporting Points, dated August 31, 2001, and effective September 16, 2001, is amended as follows:

Paragraph 6005 Class E airspace areas extending upward from 700 feet or more above the surface of the earth.

* * * * *

ASO NC E5 Andrews—Murphy, NC [Corrected]

Point in Space Coordinates

(lat. 35°11′10″ N, long. 83°52′57″ W)

That airspace extending upward from 700 feet or more above the surface within a 6-mile radius of the point in space (lat. 35°11′10″ N, long. 83°52′57″ W) serving Andrews—Murphy, NC.

* * * * *

Issued in College Park, Georgia, on January 28, 2002.
Wade T. Carpenter,
Acting Manager, Air Traffic Division, Southern Region.

[FR Doc. 02-3553 Filed 2-12-02; 8:45 am]

BILLING CODE 4910-13-M